NUCLEAR REGULATORY COMMISSION

[NRC-2012-0220]

Standard Review Plan for Review of Fuel Cycle Facility License Applications

AGENCY: Nuclear Regulatory Commission.

ACTION: NUREG revision; request for comments.

SUMMARY: The U.S. Nuclear Regulatory Commission (NRC) is planning to revise NUREG-1520, Revision 1, “Standard Review Plan (SRP) for the Review of a License Application for a Fuel Cycle Facility.” The staff proposes to revise NUREG-1520 to provide guidance and further clarify several technical areas. In addition to revising NUREG-1520, the staff is also planning to issue Interim Staff Guidance (ISG) to provide guidance on Integrated Safety Analysis (ISA) implementation issues consistent with the direction in Staff Requirements Memorandum (SRM) SECY-12-0091, “Completeness and Quality of Integrated Safety Analysis,” dated October 9, 2012, which is also available in Agencywide Documents Access and Management System (ADAMS) under Accession No. ML12284A033. The NRC staff is seeking to engage stakeholders during the early stages of the SRP revision process by soliciting comments on which SRP areas should be revised and which topics should be addressed in ISGs.

DATES: Submit comments by January 7, 2013. Comments received after the comment period deadline will be considered if it is practical to do so, but the Commission is only able to ensure consideration of comments received on or before the end of the public comment period.

ADDRESSES: You may access information and comment submissions related to this document, which the NRC possesses and are publicly available, by searching on http://www.regulations.gov under Docket ID NRC-2012-0220. You may submit comments by any of the following methods:

• Federal Rulemaking Web site: Go to http://www.regulations.gov and search for Docket ID NRC-2012-0220. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Soly I. Soto, Office of Nuclear Material Safety and Safeguards, U.S. Nuclear Regulatory Commission, Washington, DC 20555-0001; telephone: 301-492-3147; email: Soly.Soto@nrc.gov and Damaris Marcano; telephone: 301-492-3233; email: Damaris.Marcano@nrc.gov.

SUPPLEMENTARY INFORMATION:

I. Accessing Information and Submitting Comments

A. Accessing Information

Please refer to Docket ID NRC-2012-0220 when contacting the NRC about the availability of information regarding this document. You may access information related to this document, which the NRC possesses and are publicly available, by any of the following methods:

• Federal Rulemaking Web site: Go to http://www.regulations.gov and search for Docket ID NRC-2012-0220.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2012-0220 in the subject line of your comment submission, in order to ensure that the NRC is able to make your comment submission available to the public in this docket.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The SRP for the review of a license application for a fuel cycle facility (NUREG-1520) provides NRC staff guidance for reviewing and evaluating the safety, health, and environmental protection aspects of applications for licenses to possess and use special nuclear material to produce nuclear reactor fuel. In May 2010, the NRC announced the availability of Revision 01 to NUREG-1520 (75 FR 30864), which is also available under ADAMS Accession No. ML101390110. The 2010 SRP revisions improved and enhanced the guidance in specific areas of the licensing program, and added guidance in areas where information was lacking or not suitably addressed. However, the NRC staff recognizes that guidance provided in several technical areas throughout the SRP needs to be further improved. Therefore, the NRC staff is planning to revise NUREG-1520, Revision 01, to provide additional information and clarify guidance on acceptable methods for achieving regulatory compliance with current regulations.

In an SRM dated October 9, 2012 (SRM-SECY-12-0091), the Commission directed the staff to request that the American Nuclear Society (ANS) develop an ISA standard that would improve the quality and completeness of ISAs. The Commission also directed the staff to refrain from revising NUREG-1520 on ISA topics related to the ANS standard until the standard is complete. Rather, the staff should issue ISGs on certain narrow topics needing clarification such as the use of passive design features, bounding assumptions, initial conditions and the completeness of ISA summaries.

III. Initial Plan To Revise NUREG-1520

A. Proposed Changes

The NRC staff proposes to revise the SRP to provide guidance and clarify the discussion in several technical areas,¹ including criticality hazards and management measures. Further, the staff proposes to add two chapters to address the requirements for material control and accounting (MC&A) and physical protection, which are referenced in section 70.22 of Title 10 of the Code of Federal Regulations (10 CFR), “Contents of Application.” Additionally, the staff also proposes to revise the SRP to add guidance on the characterization and treatment of natural phenomena events and their impacts to fuel cycle facilities. Furthermore, the NRC staff is expecting to incorporate administrative changes throughout the SRP to ensure consistency among the chapters.

¹ Guidance on ISA implementation issues will be addressed in an ISG.

The NRC staff is planning to revise Chapter 5, “Nuclear Criticality Safety,” to expand its discussion of the double contingency principle and double contingency protection. The discussion will include a description of what constitutes a loss of double contingency. Furthermore, the staff proposes to revise Chapter 11, “Management Measures,” to provide guidance on graded management measures. This guidance will address the selection of IROFS for application of graded management measures.

The NRC staff proposes the addition of two new chapters to the SRP: Chapter 12, “Material Control and Accounting;” and Chapter 13, “Physical Protection.” The purpose of adding these chapters is to more fully address the 10 CFR part 74 requirements for material control and accounting, and the 10 CFR part 73 physical protection requirements that are specifically addressed in § 70.22 for fuel cycle facilities. In Chapters 12 and 13, the staff is planning to reference applicable fuel cycle facility review guidance for 10 CFR part 73 and part 74 including those currently being evaluated under the rulemaking process.

The staff also proposes to revise the SRP to add guidance on the characterization and treatment of natural phenomena events, and their potential impacts on fuel cycle facilities. In addition, the NRC staff expects to incorporate administrative changes throughout the chapters of the SRP. Such administrative changes may include rearrangement of some sections and general streamlining to further improve clarity, reduce redundancy, and to assure that statutory, regulatory, and guidance document references are accurate and up to date.

For the ISG addressing ISA implementation issues, the staff plans to engage stakeholders to ensure common understanding on ISA implementation issues such as the use of passive engineered controls, bounding assumptions, and initial conditions to meet the 10 CFR part 70 requirements. In addition, the staff plans to provide clarification on the completeness of the ISA summaries to ensure that facilities appropriately consider all credible events when developing an ISA.

After consideration of the comments now being solicited, the NRC plans to develop and publish a project plan that establishes timelines and milestones for the SRP revisions and ISG development. The project plan will include additional opportunities for public comment.

B. Receiving Alerts

The NRC may post additional information related to revising NUREG-1520, including meeting notices, to the Federal rulemaking Web site at http://www.regulations.gov, under Docket ID NRC-2012-0220. The Federal rulemaking Web site allows you to receive alerts when changes or additions occur in a docket folder. To subscribe: 1) navigate to the docket folder (NRC-2012-0220); 2) click the “Email Alert” link; and 3) enter your email address and select how frequently you would like to receive emails (daily, weekly, or monthly). In addition, public meeting notices will be posted on the NRC's Public Meeting Schedule Web site, http://www.nrc.gov/public-involve/public-meetings/index.cfm, at least 10 days prior to the meeting.

Dated at Rockville, Maryland, this 28th day of October 2012.
For the Nuclear Regulatory Commission.
Marissa Bailey,
Deputy Director, Division of Fuel Cycle Safety and Safeguards, Office of Nuclear Material Safety and Safeguards.

[FR Doc. 2012-29678 Filed 12-6-12; 8:45 am]

BILLING CODE 7590-01-P